NUCLEAR REGULATORY COMMISSION

[Docket No. 40-8943-MLA; ASLBP No. 07-859-03-MLA-BD01]

Atomic Safety and Licensing Board Panel; Before the Licensing Board: G. Paul Bollwerk, III, Chair, Nicholas G. Trikouros, Dr. Craig M. White; In the Matter of: Crow Butte Resources, Inc. (North Trend Expansion Project); Memorandum and Order (Notice of Hearing)

December 20, 2023.

In 2007, Crow Butte Resources, Inc., (CBR) submitted a request to amend its existing 10 CFR part 40 source materials license to authorize CBR to conduct in situ uranium recovery operations within the so-called North Trend Expansion Area (NTEA).¹ In a May 2008 ruling,² the Licensing Board granted the hearing requests of Consolidated Intervenors.³ Additionally, the Board granted 10 CFR 2.315(c) interested governmental entity status to the Oglala Sioux Tribe and the Oglala Delegation of the Great Sioux Nation Treaty Council, allowing them to participate in this proceeding as well.⁴

¹ See Letter from Stephen P. Collins, President, CBR, to Charles L. Miller, Director, Office of Federal and State Materials and Environmental Management Programs, Nuclear Regulatory Commission (NRC) at 1 (May 30, 2007) (Agencywide Documents Access and Management System (ADAMS) Accession No. ML0711550057).

² See LBP-08-06, 67 NRC 241, 344 (2008), aff'd in part and rev'd in part, CLI-09-12, 69 NRC 535, 573 (2009).

³ The Consolidated Intervenors consist of the Western Nebraska Resources Council, Debra White Plume, and Owe Aku/Bring Back the Way.

⁴ See LBP-09-12, 69 NRC 11, 52 (2009), rev'd on other grounds, CLI-09-12, 69 NRC at 573; LBP-08-06, 67 NRC at 344.

In light of the foregoing, please take notice that a hearing is being conducted in this license amendment proceeding. The hearing is governed by the simplified hearing procedures set forth in 10 CFR part 2, subparts C and L, 10 CFR 2.300-2.390, 2.1200-2.1213.

The public is invited to attend any prehearing conference, oral argument, or evidentiary hearing that may be conducted in this adjudication pursuant to 10 CFR 2.329, 2.331, 2.327-2.328, 2.1206-2.1208. Notices of those sessions will be published in the Federal Register and/or made available to the public at the NRC Public Document Room (PDR), located at One White Flint North, 11555 Rockville Pike (first floor), Rockville, Maryland, and through the NR website, www.nrc.gov.

Documents relating to this license amendment proceeding are available for public inspection at the Commission's PDR or electronically from the publicly available records component of NRC's ADAMS document repository. ADAMS, including its adjudicatory proceeding-related Electronic Hearing Docket, is accessible from the NRC website at www.nrc.gov/reading-rm/adams.html. Persons who do not have access to ADAMS, or who encounter problems in accessing the documents located in ADAMS, should contact the NRC PDR reference staff by telephone at 1-800-397-4209/301-415-4737, or by email to pdr.resource@nrc.gov.

It is so ordered.

For the Atomic Safety and Licensing Board. Rockville, Maryland.
Dated: December 20, 2023.
George P. Bollwerk, III,
Administrative Judge.

[FR Doc. 2023-28385 Filed 12-22-23; 8:45 am]

BILLING CODE 7590-01-P